DEPARTMENT OF ENERGY

Office of Energy Efficiency and Renewable Energy

Amendment to an Approved Agency Information Collection

AGENCY: Office of Energy Efficiency and Renewable Energy, U.S. Department of Energy.

ACTION: Notice and request for comments.

SUMMARY: The Department of Energy (DOE) invites public comment on a proposed collection of information that DOE is developing for submission to the Office of Management and Budget (OMB) pursuant to the Paperwork Reduction Act of 1995. The proposed collection of information relates to three of DOE's Better Buildings Programs. Comments are invited on: (a) whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before December 1, 2015. If you anticipate difficulty in submitting comments within that period, contact the person listed in ADDRESSES as soon as possible.

ADDRESSES: Written comments may be sent Andre de Fontaine, EE-5A/Forrestal Building, 1000 Independence Avenue SW., Washington, DC 20585, by fax at 202-586-5234, or by email at andre.defontaine@ee.doe.gov.

FOR FURTHER INFORMATION CONTACT: Requests for additional information or copies of the information collection instrument and instructions should be directed to Andre de Fontaine, EE-5F/Forrestal Building, 1000 Independence Avenue SW., Washington, DC 20585, by fax at 202-586-5234, or by email at andre.defontaine@ee.doe.gov.

SUPPLEMENTARY INFORMATION: This information collection request contains:

(1) OMB No.1910-5141;

(2) Information Collection Request Title: Department of Energy Better Buildings Challenge, Better Buildings Alliance, and the Better Buildings, Better Plants Voluntary Pledge Program;

(3) Type of Request: Amendment;

(4) Purpose: This Information Collection Request applies to three Department of Energy (DOE) voluntary leadership initiatives that fall under the President's Better Buildings Initiative: (1) The Better Buildings Challenge; (2) the Better Buildings, Better Plants Program; and (3) the Better Buildings Alliance. The information being collected is needed so as to include participants in new sub-programs under the Better Buildings Challenge concerning energy efficiency in the multifamily residential and data center sectors, as well as a new water savings challenge. Additionally, other pre-existing collection forms are being amended for clarity and to reduce burden on respondents. Also, the total number of respondents for individual program areas is being adjusted to align with practical experience and to account for the fact that certain one-time reporting requirements have already been satisfied by a majority of the participants.

The leadership initiatives under the Better Buildings Initiative covered under this Information Collection Request are intended to drive greater energy and water efficiency in the commercial, public, residential, data center, and industrial marketplace to reduce pollution, cut costs, and create jobs. This will be accomplished by highlighting the ways participants overcome market barriers to greater efficiency with replicable solutions. The program will showcase real solutions and partner with industry leaders to better understand policy and technical opportunities. There are three types of information to be collected from primary participants, also referred to as “Partners”: (1) Background data, including contact information, a partnership agreement form, logo(s), information needed to support public announcements, updates on participants' showcase projects, and an energy savings goal; (2) Portfolio-wide energy performance information; and (3) Information on market innovations participants are including in their energy efficiency processes. Background data will primarily be used to develop Web site content that will be publically available. Portfolio-wide facility-level energy performance information will be used by DOE to measure the participants' progress in meeting the goals of the program, as well as to aggregate the change in energy performance and related metrics for the entire program. Information on market innovation will be used to highlight successful strategies participants use to overcome challenges, and will be publicly available. Additional background information is being collected from “Allies”, financial and utility organizations that make a public commitment to support the energy efficiency marketplace. Background information including name, commitment in terms of dollars committed by financial allies, or percent of commercial customer class committed by utility allies, and a company logo will be used to develop publically available Web site content. Responses to the DOE's Information Collection Request will be voluntary.

(5) Annual Estimated Number of Respondents: Amending currently approved Information Collection Request (“ICR”) which includes respondents of 550, by reducing by 70, for a total of 480;

(6) Annual Estimated Number of Total Responses: Amending currently approved ICR with includes an estimated number of total response of 2,333, by reducing by 1,361, for a total of 972;

(7) Annual Estimated Number of Burden Hours: Amending currently approved ICR with an estimated number of burden hours of 4,652, by reducing by 1,932, for a total of 2,720.

(8) Annual Estimated Reporting and Recordkeeping Cost Burden: Amending currently approved ICR with an estimated $183,610, by reducing by $76,261, for a total reporting and recording cost burden of $107,349.

Statutory Authority: Section 421 of the Energy Independence and Security Act of 2007 (42 U.S.C. 17081); Section 911 of the Energy Policy Act of 2005, as amended (42 U.S.C. 16191).

Issued in Washington, DC on September 28, 2015.
Maria Vargas,
Director Better Buildings Challenge, Office of Energy Efficiency & Renewable Energy.

[FR Doc. 2015-25106 Filed 10-1-15; 8:45 am]

BILLING CODE 6450-01-P